GOVERNMENT PRINTING OFFICE

Depository Library Council to the Public Printer Meeting

The Depository Library Council to the Public Printer (DLC) will meet on Monday, April 4, 2011 through Wednesday, April 6, 2011, in San Antonio, Texas. The sessions will take place from 8 a.m. to 5:30 p.m. on Monday through Tuesday. On Wednesday the session will be 8 a.m. to 12 p.m. The meeting will be held at the Crowne Plaza Riverwalk San Antonio located at 111 East Pecan Street, San Antonio, Texas. The purpose of this meeting is to discuss the Federal Depository Library Program. All sessions are open to the public. The sleeping rooms available at the Crowne Plaza Riverwalk, San Antonio, Texas will be at the government rate of $106 (plus applicable state and local taxes, currently 16.75%) a night for a single or double. The Crowne Plaza Riverwalk is in compliance with the requirements of Title III of the Americans with Disabilities Act and meets all Fire Safety Act regulations.

William J. Boarman,
Public Printer of the United States.

[FR Doc. 2011-5832 Filed 3-11-11; 8:45 am]

BILLING CODE 1520-01-P